DEPARTMENT OF COMMERCE

Census Bureau

Agency Information Collection Activities; Submission to the Office of Management and Budget (OMB) for Review and Approval; Comment Request; Ask U.S. Panel

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 7, 2021, during a 60-day comment period and a 30-day comment period posted on March 1, 2022. This notice allows for an additional 30-day comment period on the topical survey questionnaires.

Agency: U.S. Census Bureau, Department of Commerce.

Title: Ask U.S. Panel Pilot.

OMB Control Number: 0607-XXXX.

Form Number(s): Not yet determined.

Type of Request: Revision Request.

Number of Respondents: 1,700.

Average Hours per Response: Approximately 15 minutes per respondent.

Burden Hours: No additional burden hours are requested under this Revision request.

Needs and Uses: The Ask U.S. Panel (“the Panel”) Pilot will recruit a probability-based nationwide nationally-representative survey panel to test the methods to track public opinion on a variety of topics of interest, and for conducting experimentation on alternative question wording and methodological approaches.

A large-scale field Pilot Test will be conducted to recruit members for the panel, based on a probability sample of U.S. adults. Once Pilot Panel members are recruited, they will receive a topical survey to complete. The current notice announces the content of the topical survey for both the general population and the Department of Defense samples.

This 30-day notice seeks comments on the proposed Topical Survey questionnaires only.

Affected Public: Individuals or households.

Frequency: Once.

Respondent's Obligation: Voluntary.

Legal Authority: The Pilot is being developed under a cooperative agreement awarded by the Census Bureau pursuant to the Consolidated Appropriations Act of 2021, Public Law 116-260, section 110. Data collection for the topical surveys are authorized under 13 U.S.C. 8(b), 131, 141, 161, 181, 182, and 193; and 10 U.S.C. 1782. The information collected in topical surveys is protected by title 13 of the United States Code for the General Population Survey and by the Privacy Act of 1974 (5 U.S.C. 552a) for the Department of Defense Survey.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-07104 Filed 4-4-22; 8:45 am]

BILLING CODE 3510-07-P